DEPARTMENT OF COMMERCE

National Oceanic and Atmospheric Administration

50 CFR Part 622

[Docket No. 141107936-5399-02]

RIN 0648-XE606

Fisheries of the Caribbean, Gulf of Mexico, and South Atlantic; Re-Opening of Commercial Sector for South Atlantic Gray Triggerfish; January Through June Season

AGENCY: National Marine Fisheries Service (NMFS), National Oceanic and Atmospheric Administration (NOAA), Commerce.

ACTION: Temporary rule; re-opening.

SUMMARY: NMFS announces the re-opening of the commercial sector for gray triggerfish in the exclusive economic zone (EEZ) of the South Atlantic through this temporary rule. The most recent commercial landings of gray triggerfish indicate the commercial annual catch limit (ACL) for the January through June fishing season has not yet been reached. Therefore, NMFS re-opens the commercial sector for gray triggerfish in the South Atlantic EEZ for 18 days to allow the commercial ACL to be caught, while minimizing the risk of the commercial ACL being exceeded.

DATES: This rule is effective 12:01 a.m., local time, June 13, 2016, until 12:01 a.m., local time, July 1, 2016.

FOR FURTHER INFORMATION CONTACT: Mary Vara, NMFS Southeast Regional Office, telephone: 727-824-5305, email: mary.vara@noaa.gov.

SUPPLEMENTARY INFORMATION: The snapper-grouper fishery of the South Atlantic includes gray triggerfish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The commercial ACL (equal to the commercial quota) for gray triggerfish during the January through June fishing season is 156,162 lb (70,834 kg), round weight, as specified in 50 CFR 622.190(a)(8)(i). Under 50 CFR 622.193(q)(1)(i), NMFS is required to close the commercial sector for gray triggerfish when the commercial quota for the January through June fishing season specified in § 622.190(a)(8)(i) is reached, or is projected to be reached, by filing a notification to that effect with the Office of the Federal Register. NMFS previously projected that the commercial quota for South Atlantic gray triggerfish for the January through June fishing season would be reached by April 2, 2016. Accordingly, NMFS published a temporary rule to implement accountability measures (AMs) to close the commercial sector for South Atlantic gray triggerfish effective from April 2, 2016, until the start of the July through December fishing season on July 1, 2016 (81 FR 17094, March 28, 2016).

However, the most recent landings data for gray triggerfish indicate the commercial quota has not been reached. Consequently and in accordance with 50 CFR 622.8(c), NMFS temporarily re-opens the commercial sector for gray triggerfish on June 13, 2016. The commercial sector will remain open for 18 days until the July through December fishing season begins on July 1, 2016. Re-opening the commercial sector on June 13, 2016, through June 30, 2016, allows for an additional opportunity to commercially harvest gray triggerfish, minimizes the risk of the commercial quota being exceeded, and allows fishermen to harvest gray triggerfish without a closure period until the next fishing season begins on July 1, 2016.

Classification

The Regional Administrator, NMFS Southeast Region, has determined this temporary rule is necessary for the conservation and management of gray triggerfish and the South Atlantic snapper-grouper fishery and is consistent with the Magnuson-Stevens Act and other applicable laws.

This action is taken under 50 CFR 622.8(c) and is exempt from review under Executive Order 12866.

These measures are exempt from the procedures of the Regulatory Flexibility Act because the temporary rule is issued without opportunity for prior notice and comment.

This action responds to the best scientific information available. The Assistant Administrator for NOAA Fisheries (AA), finds that the need to immediately implement this action to temporarily re-open the commercial sector for gray triggerfish constitutes good cause to waive the requirements to provide prior notice and opportunity for public comment pursuant to the authority set forth in 5 U.S.C. 553(b)(B), as such procedures are unnecessary and contrary to the public interest. Such procedures are unnecessary because the rule implementing the commercial quota and AMs has been subject to notice and comment, and all that remains is to notify the public of the re-opening. Such procedures are contrary to the public interest because of the need to immediately implement this action to allow commercial fishermen to harvest the commercial quota of gray triggerfish from the EEZ, while minimizing the risk of exceeding the commercial quota. Prior notice and opportunity for public comment would require time and would delay the re-opening of the commercial sector.

For the aforementioned reasons, the AA also finds good cause to waive the 30-day delay in the effectiveness of this action under 5 U.S.C. 553(d)(3).

Authority: 16 U.S.C. 1801 et seq.

Dated: May 20, 2016.
Emily H. Menashes,
Acting Director, Office of Sustainable Fisheries, National Marine Fisheries Service.

[FR Doc. 2016-12356 Filed 5-24-16; 8:45 am]

BILLING CODE 3510-22-P